DEPARTMENT OF COMMERCE

National Oceanic and Atmospheric Administration

50 CFR Part 648

[Docket No. 051017270-5339-02; I.D. 083106D]

Fisheries of the Northeastern United States; Atlantic Surfclam and Ocean Quahog Fishery; Quota Harvested for Maine Mahogany Quahog Fishery

AGENCY: National Marine Fisheries Service (NMFS), National Oceanic and Atmospheric Administration (NOAA), Commerce.

ACTION: Temporary rule; closure.

SUMMARY: NMFS announces that the annual quota for the Maine mahogany quahog fishery has been harvested. Commercial vessels operating under a limited access Maine mahogany quahog permit may not harvest Maine mahogany quahogs from the Maine mahogany quahog zone for the remainder of the fishing year (through December 31, 2006). Regulations governing the Maine mahogany quahog fishery require publication of this notification to advise the public of this closure. This closure does not apply to vessels with a Maine mahogany quahog permit that are fishing under an ocean quahog individual transferable quota (ITQ).

DATES: Effective 0001 hrs local time, November 14, 2006, through 2400 hrs local time, December 31, 2006.

FOR FURTHER INFORMATION CONTACT: Tobey Curtis, 978-281-9273; fax 978-281-9135; email Tobey.Curtis@Noaa.gov.

SUPPLEMENTARY INFORMATION: The regulations governing the Maine mahogany quahog fishery appear at 50 CFR part 648, subpart E. The annual quota for the harvest of mahogany quahogs within the Maine mahogany quahog zone for the 2006 fishing year was established at 100,000 Maine bu (35,150 hL), as stated in the final rule published on December 28, 2005 (70 FR 76715). The Maine mahogany quahog zone is defined as the area bounded on the east by the U.S.-Canada maritime boundary, on the south by a straight line at 43° 50′ N. lat., and on the north and west by the shoreline of Maine.

The Administrator, Northeast Region, NMFS (Regional Administrator) monitors the commercial Maine mahogany quahog quota for each fishing year using dealer and other available information to determine when the quota is projected to have been harvested. If the quota is projected to be reached, NMFS is required to publish notification in the Federal Register informing commercial vessel permit holders that, effective upon a specific date, the Maine mahogany quahog quota has been harvested and no commercial quota is available for harvesting mahogany quahogs by vessels possessing a limited access Maine mahogany quahog permit for the remainder of the year, from within the Maine mahogany quahog zone. This does not apply, however, to vessels with a Maine mahogany quahog permit that are fishing under an ocean quahog ITQ, and utilizing ITQ cage tags.

The Regional Administrator has determined, based upon dealer reports and other available information, that the 2006 Maine mahogany quahog quota has been harvested. Therefore, effective 0001 hrs local time, November 16, 2006, further landings of Maine mahogany quahogs harvested from within the Maine mahogany quahog zone by vessels possessing a limited access Maine mahogany quahog Federal fisheries permit are prohibited through December 31, 2006. The 2007 fishing year for Maine mahogany quahog harvest will open on January 1, 2007.

Classification

This action is required by 50 CFR part 648 and is exempt from review under Executive Order 12866.

Authority: 16 U.S.C. 1801 et seq.

Dated: November 8, 2006.
James P. Burgess,
Acting Director, Office of Sustainable Fisheries, National Marine Fisheries Service.

[FR Doc. 06-9228 Filed 11-13-06; 2:42 pm]

BILLING CODE 3510-22-S